FEDERAL ELECTION COMMISSION

Sunshine Act Meeting

DATE AND TIME: Tuesday, May 1, 2001 at 10 a.m.

PLACE: 999 E Street, NW., Washington, DC.

STATUS: This meeting will be closed to the public.

ITEMS TO BE DISCUSSED: Compliance matters pursuant to 2 U.S.C. § 437g.

Audits conducted pursuant to 2 U.S.C. § 437g, § 438(b), and Title 26, U.S.C.

Matters concerning participation in civil actions or proceedings or arbitration.

Internal personnel rules and procedures of matters affecting a particular employee.

DATE AND TIME: Thursday, May 3, 2001 at 10 a.m.

PLACE: 999 E Street, NW., Washington, DC (Ninth Floor)

STATUS: This meeting will be opened to the public.

ITEMS TO BE DISCUSSED: Correction and Approval of Minutes.

Advisory Opinion 2001-06: Maryland Green Party by Erik Michelsen, Treasurer.

Revised Notice of Proposed Rulemaking on Independent Expenditure Reporting.

New Rules on General Public Political Communications Coordinated with Candidates and Party Committees, and Independent Expenditures: Announcement of Effective Date.

Administrative Matters.

PERSON TO CONTACT FOR INFORMATION: Mr. Ron Harris, Press Officer, Telephone: (202) 694-1220.

Mary W. Dove,
Secretary of the Commission.

[FR Doc. 01-10494 Filed 4-24-01; 11:22 am]

BILLING CODE 6715-01-M